DEPARTMENT OF HEALTH AND HUMAN SERVICES

Centers for Disease Control and Prevention

[60Day-04-67]

Proposed Data Collections Submitted for Public Comment and Recommendations

In compliance with the requirement of Section 3506(c)(2)(A) of the Paperwork Reduction Act of 1995 for opportunity for public comment on proposed data collection projects, the Centers for Disease Control and Prevention (CDC) will publish periodic summaries of proposed projects. To request more information on the proposed projects or to obtain a copy of the data collection plans and instruments, call the CDC Reports Clearance Officer on (404) 498-1210.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Send comments to Sandra Gambescia, CDC Assistant Reports Clearance Officer, 1600 Clifton Road, MS-E11, Atlanta, GA 30333 or send an email to omb@cdc.gov. Written comments should be received within 60 days of this notice.

Proposed Project

Evaluation Questions for State Nutrition and Physical Activity Programs to Prevent Obesity and Other Chronic Diseases—New—National Center for Chronic Disease Prevention and Health Promotion (NCCDHP), Centers for Disease Control and Prevention (CDC).

Background

The “State Nutrition and Physical Activity Programs to Prevent Obesity and Other Chronic Diseases” project was established by CDC to prevent and control obesity and other chronic diseases by supporting States in the development and implementation of nutrition and physical activity interventions, particularly through population-based strategies such as policy-level changes, environmental supports and the social marketing process. The goal of the programs in this project is to attain population-based behavior change such as increased physical activity and better dietary habits; this leads to a reduction in the prevalence of obesity, and ultimately to a reduction in the prevalence of obesity-related chronic diseases.

The evaluation questions for “State Nutrition and Physical Activity Programs to Prevent Obesity and Other Chronic Diseases” have been designed to focus on three primary areas: (1) CDC training and technical assistance; (2) State Plan development; and (3) State interventions. Within each of these primary evaluation areas, the plan identifies specific evaluation questions that have been chosen for study. The evaluation questions will be asked of the funded states via a web-based data collection system supported by an electronic database. This evaluation will take place every 6 months during the funding cycle. The proposed project will be conducted over a 3-year period. There is no cost to the respondents.

Annualized Burden Table
Respondents | Number of respondents | Number responses per respondent | Average burden per response (in hrs.) | Total burden (in hrs.)
State Project Coordinators of Funded State Programs | 20 | 2 | 8 | 320
Assistants to State Project Coordinators of Funded State Programs | 20 | 2 | 4 | 160
Total | 40 |  |  | 480

Dated: June 18 2004.
Alvin Hall,
Director, Management Analysis and Services Office, Centers for Disease Control and Prevention.

[FR Doc. 04-14312 Filed 6-23-04; 8:45 am]

BILLING CODE 4163-18-P